DEPARTMENT OF LABOR

Employment and Training Administration

Proposed Information Collection Request Submitted for Public Comment and Recommendations

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision the information collection of the GPRA-Complaint Program Performance and Participant Outcomes Data System (OMB Control No. 1205-0392), now titled the Trade Act Participant Report.

A copy of the proposed information collection request (ICR) can be obtained by contacting the office listed below in the addressee section of this notice.

DATES: Written comments must be submitted to the office listed in the addressee section below on or before July 31, 2000.

ADDRESSES: Curtis K. Kooser, Program Analyst, Division of Trade Adjustment Assistance, Employment and Training Administration, U.S. Department of Labor, Room C-4318, 200 Constitution Ave., NW., Washington, DC 20210, telephone 202-219-4845, ext. 111 (this is not a toll-free number), FAX 202-219-5753, e-mail ckooser@doleta.gov.

SUPPLEMENTARY INFORMATION:

I. Background

On June 16, 1998, the Office of Management and Budget approved a GPRA-complaint performance and participant outcomes data system for the Division of Trade Adjustment Assistance (DTAA); this system is now known as the Trade Act Participant Report (TAPR). States implemented the TAPR beginning with the first quarter of fiscal year 1999 (October through December, 1998), and have continued to collect and report data every quarter since then.

Because both Trade Adjustment Assistance (TAA) and Title III of the Job Training Partnership Act (JTPA) serve adult dislocated workers, the TAPR was modeled on the Standardized Program Information Report (SPIR) system used by the JTPA programs. The passage of the Workforce Investment Act of 1998 (WIA), which replaced JTPA, made substantial changes in Federal employment and training programs, including changes in the way participant data are defined, gathered, and reported.

II. Review Focus

The Department of Labor is particularly interested in comments which:

• Evaluate whether the proposed revision of information collection is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

In order to maintain coordination and continuity with the dislocated worker program under Title One of WIA, and to make other improvements, DTAA is proposing revisions to the TAPR that make it substantially the same as the system to be used by the WIA programs. The major changes are the following:

1. The definitions of Race and Ethnicity are now compliant with the most recent OMB definitions.

2. Date for defining and judging outcomes for participants are now based upon Wage Record data rather than surveys of individuals program exiters. It is estimated that this will substantially reduce the reporting burden on the States.

3. Minor revisions in the sequence and definitions of some of the TAPR fields have been made in order to increase the degree of continuity with the new system to be used by the dislocated workers program under WIA Title I.

4. The format for reporting dates has been changed from MMDDYYYY to YYYYMMDD to conform with the new WIA-Based system.

Type of Review: Revision.

Agency: Employment and Training Administration.

Title: Trade Act Participant Reporrt (TAPR).

OMB Number: 1205-0392.

Affected Public: State governments.

Frequency: Quarterly.

Total Responses: 200 (50 per quarter).

Average Time per Response: 40 hours per quarter.

Estimated Total Burden Hours: 8,000.

Total Burden Cost (capital/startup): 0.

Total Burden Cost (operating/maintaining): $120,000.

Comments submitted in response to this comment request will be summarized and/or included in the request for Office of Management and Budget approval of the information collection request; they will also become a matter of public record.

Dated: May 25, 2000.
Edward A. Tomchick.
Director, Division of Trade Adjustment Assistance.

[FR Doc. 00-13613 Filed 5-31-00; 8:45 am]

BILLING CODE 4510-30-M